DEPARTMENT OF JUSTICE

[AAG/A Order No. 015-2003]

Privacy Act of 1974; Systems of Records

Pursuant to the Privacy Act of 1974 (5 U.S.C. 552a), the Department proposes to modify the following Privacy Act systems of records:

Central Civil Rights Division Index File and Associated Records, JUSTICE/CRT-001 (previously published on February 20, 1998, at 63 FR 8659);

Civil Rights Case Load Evaluation System—Time Reporting System, JUSTICE/CRT-003 (previously published on October 17, 1988, at 53 FR 40510);

Registry of Names of Interested Persons Desiring Notifications of Submissions Under Section 5 of the Voting Rights Act, JUSTICE/CRT-004 (previously published on October 17, 1988, at 53 FR 40511);

Files on Employment Civil Rights Matters from Persons Outside of the Department of Justice, JUSTICE/CRT-007 (previously published on October 17, 1988, at 53 FR 40512); and Civil Rights Division Travel Reports, JUSTICE/CRT-009 (previously published on October 17, 1988, at 53 FR 40514).

The Department is publishing modifications to the above systems of records. This notice includes some major changes such as adding new routine uses. Also, the Department made other non-substantive changes in all the above systems to provide clarification, such as to correct typographical errors, to provide updated addresses, to update information on particular statutes, to clarify existing routine uses, to add data elements omitted from previous notices, and to reflect nomenclature changes. The proposed rule for the Privacy Act exemptions is also being updated and is published in today's Federal Register.

First, in the Central Civil Rights Division Index File and Associated Records system, CRT-001, the Department proposes to allow records which may disclose a violation or potential violations of law to be referred to the appropriate authority charged with the responsibility for investigation, enforcing or prosecuting such violation. Two other routine use disclosures permit the disclosure of information regarding the progress and results of investigations to contractors, experts, students, consultants, mediators, negotiators, and other persons performing work or on assignment to the Federal Government. Another routine use will permit the disclosure of information to former employees of the Department for matters in which they were involved. In addition, a revised routine use will permit disclosure of health care-related information obtained during health care-related investigations.

Second, the Department proposes to add five routine use disclosures to Civil Rights Interactive Case Management System, CRT-003. The first routine use allows records which may disclose a violation or potential violations of law to be referred to the appropriate authority charged with the responsibility for investigation, enforcing or prosecuting such violation. Two routine uses are similar to those above: To permit the disclosure of information regarding the progress and results of investigations to contractors, experts, students, consultants, and other persons performing work or on assignment to the Federal Government; and to permit the disclosure of information to former employees of the Department for matters in which they were involved. One routine use will permit disclosure to complainants and victims to provide information about the progress and/or results of an investigation or case. Further, information may be disclosed to the media under certain circumstances unless it would constitute an unwarranted invasion of personal privacy.

Third, the Department proposes to add three routine use disclosures to Registry of Names of Interested Persons Desiring Notifications of Submissions Under Section 5 of the Voting Rights Act, CRT-004. Two routine uses are similar to that above: To permit the disclosure of information regarding the progress and results of investigations to contractors, experts, students, consultants, and other persons performing work or on assignment to the Federal Government; and to permit the disclosure of information to former employees of the Department for matters in which they were involved. Another routine use will allow records which may disclose a violation or potential violations of law to be referred to the appropriate authority charged with the responsibility for investigation, enforcing or prosecuting such violation.

Fourth, the Department proposes to add three routine use disclosures to Files on Employment Civil Rights Matters from Persons Outside of the Department of Justice, CRT-007. This routine use will permit the disclosure to complainants and victims to provide information about the progress or results of an investigation or case. Two routine uses are identical to that above: To permit the disclosure of information regarding the progress and results of investigations to contractors, experts, students, consultants, and other persons performing work or on assignment to the Federal Government; and to permit the disclosure of information to former employees of the Department for matters in which they were involved. One routine use will permit disclosure to complainants and victims to provide information about the progress or results of an investigation or case.

Fifth, the Department proposes to add two identical routine uses as those above, for disclosure to contractors and former employees, in Civil Rights Division Travel Reports, CRT-009. The other routine use will allow records which may disclose a violation or potential violations of law to be referred to the appropriate authority charged with the responsibility for investigation, enforcing or prosecuting such violation or law.

In addition, the Civil Rights Division has one system of records, CRT-002, Files of Application for the Position of Attorney with the Civil Rights Division, which is now covered by two government wide systems of records of the Office of Personnel Management (OPM): OPM/GOVT-1, General Personnel Records; and OPM/GOVT-5, Recruiting, Examining and Placement Records (both published on April 27, 2000, at 65 FR 24732-24753). Accordingly, these government wide system notices replace, and the Department hereby removes, on the effective date of this notice, the following notice previously published by an individual Department of Justice component:

Files of Application for the Position of Attorney with the Civil Rights Division, JUSTICE/CRT-002 (previously published on December 17, 1985, at 50 FR 51482).

Finally, the Office of Special Counsel for Immigration Related Unfair Employment Practices was merged into the Civil Rights Division, and its two remaining systems of records are being incorporated into the Civil Rights Division's systems of records. Accordingly, this system notice replaces, and the Department hereby removes, on the effective date of this notice, the following notices previously published by individual Department of Justice components:

Office of Special Counsel, “Central Index File and Associated Records,” OSC-001 (previously published on October 17, 1988, at 53 FR 40531); and

Office of Special Counsel, “Special Counsel for Immigration Related Unfair Employment Practices Travel Reports,” OSC-003 (previously published on September 15, 1988 at 53 FR 35926).

The Office of Special Counsel's systems of records, OSC-001 and OSC-003, were incorporated into the Civil Rights Division's systems of records, CRT-001 and CRT-009, respectively.

The modified systems of records are printed below.

In accordance with 5 U.S.C. 552a(e)(4) and (11), the public is given a 30-day period in which to comment; and the Office of Management and Budget (OMB), which has oversight responsibility of the Act, requires a 40-day period in which to conclude its review of the system. Therefore, please submit any comments by September 10, 2003. The public, OMB and the Congress are invited to submit comments to: Mary Cahill, Management and Planning Staff, Justice Management Division, Department of Justice, 1331 Pennsylvania Ave., NW., Washington, DC 20530 (1400 National Place Building).

In accordance with 5 U.S.C. 552a(r), the Department has provided a report to OMB and Congress.

Dated: July 24, 2003.
Paul R. Corts,
Assistant Attorney General for Administration.

JUSTICE/CRT-001

SYSTEM NAME:

Central Civil Rights Division Index File and Associated Records, CRT-001.

SYSTEM LOCATION:

United States Department of Justice, Civil Rights Division (CRT), 950 Pennsylvania Avenue, NW., Washington, DC 20530-0001.

CATEGORIES OF INDIVIDUALS COVERED BY THE SYSTEM:

These persons may include: Subjects of investigations, victims, potential witnesses, individuals of Japanese ancestry who were eligible, or potentially eligible, for restitution benefits as a result of their evacuation, relocation, or internment during World War II, and representatives on behalf of individuals and other correspondents on subjects directed or referred to CRT or other persons or organizations referred to CRT in potential or actual cases and matters of concern to CRT, and CRT employees who handle complaints, cases or matters of concern to CRT.

CATEGORIES OF RECORDS IN THE SYSTEM:

Records in this system consist of case files, matters, memoranda, correspondence, studies, and reports relating to enforcement of civil rights laws and other various duties of the Civil Rights Division. The delegated legal duties and responsibilities of each section are described in detail at the Civil Rights Division Web page: http://www.usdoj.gov/crt/crt-home.html. In addition to the sections, the Civil Rights Division maintains records related to the duties of the former Office of Redress Administration pertaining to the identification, location and authorization for restitution payments to eligible individuals of Japanese ancestry who were evacuated, relocated or interned during World War II. These restitution payments were authorized by section 105 of the Civil Liberties Act of 1988 (50 U.S.C. App. 1989b). Finally, the names of some individuals, e.g., witnesses, may not yet be on the central indices and may be obtained by direct access to the file jackets. Such file jackets are located within the respective sections of CRT according to the legal subject matter assigned to each CRT section.

AUTHORITY FOR MAINTENANCE OF THE SYSTEM:

The records in the system of records are kept under the authority of 44 U.S.C. 3101 and in the ordinary course of fulfilling the responsibility assigned to CRT under the provisions of 28 CFR 0.50, 0.51.

PURPOSES:

The purposes of this system are to assist all the sections within the Division in maintaining names of Division employees and their case investigation assignments, names of defendants or investigation targets, victims, witnesses or potential witnesses, or other persons or organizations as they relate to potential or actual cases, investigations, and matters of concern to CRT. Other purposes are to assist employees and officials within the Division to review and make decisions in the course of investigations and legal proceedings, to assist the Division in preparing budget requests, to respond to inquiries from outside the Department, and to carry out other authorized Department functions.

ROUTINE USES OF RECORDS MAINTAINED IN THE SYSTEM, INCLUDING CATEGORIES OF USERS AND THE PURPOSES OF SUCH USES:

A record maintained in this system of records may be disseminated as a routine use of such records as follows:

(1) In the event that a record in this system, either alone or in conjunction with other information, indicates a violation or potential violation of law—criminal, civil, or regulatory in nature—the relevant records may be referred to the appropriate Federal, State, local, foreign, or Tribal law enforcement authority or other appropriate agency charged with the responsibility for investigating or prosecuting such violation or charged with enforcing or implementing such law;

(2) In the course of the administration by CRT of a federally mandated program, or the investigation or litigation of a case or matter, a record may be disseminated to a Federal, State or local agency, or to an individual or organization, if there is reason to believe that such agency, individual or organization possesses information or has the expertise in an official or technical capacity to assist in the administration of such program or to analyze information relating to the investigation, trial or hearing and the dissemination is reasonably necessary to elicit such assistance, information or expert analysis, or to obtain the cooperation of a prospective witness or informant;

(3) A record relating to a case or matter, or any facts derived therefrom, may be disseminated in a proceeding before a court, grand jury, administrative or regulatory proceeding or any other adjudicative body before which CRT is authorized to appear, when the United States, or any agency or subdivision thereof, is a party to litigation or has an interest in litigation and such records are determined by CRT to be arguably relevant to the litigation;

(4) A record relating to a case or matter may be disseminated to an actual or potential party to litigation or the party's attorney (a) for the purpose of negotiation or discussion on such matters as settlement of the case or matter, plea bargaining or (b) in informal discovery proceedings;

(5) A record relating to a case or matter that has been referred for investigation may be disseminated to the referring agency to notify such agency of the status of the case or matter or of any determination that has been made;

(6) A record relating to a person held in custody or probation during a criminal proceeding or after conviction may be disseminated to any agency or individual having responsibility for the maintenance, supervision or release of such person;

(7) A record may be disseminated to the United States Commission on Civil Rights in response to its request and pursuant to 42 U.S.C. 1975d;

(8) To contractors, grantees, experts, consultants, students, and others performing or working on a contract, service, grant, cooperative agreement, or other assignment for the Federal Government, when necessary to accomplish an agency function related to this system of records;

(9) A record may be disseminated to mediators, negotiators or other persons engaged in efforts to resolve or settle cases or matters pending in the Division as is necessary to enable them to perform their assigned duties;

(10) A record may be disseminated to complainants and victims to the extent necessary to provide such persons with information and explanations concerning the progress or results of the investigation or case arising from the matters of which the complainants or victims complained or of which they were a victim;

(11) Information relating to health care fraud may be disclosed to private health plans, or associations of private health plans, health insurers, or associations of health insurers, to promote the coordination of efforts to prevent, detect, investigate, and prosecute health care fraud; to assist efforts by victims of health care fraud to obtain restitution; to enable private health plans to participate in local, regional, and national health care fraud task force activities; and to assist tribunals, which have jurisdiction over claims against private health plans for allegedly improper disclosures to the Department of Justice of information concerning suspected health care fraud, in determining whether the private health plan qualifies for statutory immunity from civil liability as provided by Section 201 of the Health Insurance Portability and Accountability Act of 1998, codified at 42 U.S.C. 1320a-7c(a)(3)(B)(iii);

(12) Information permitted to be released to the news media and the public pursuant to 28 CFR 50.2 may be made available unless it is determined that release of the specific information in the context of a particular case would constitute an unwarranted invasion of personal privacy;

(13) Information may be disclosed as is necessary to respond to inquiries by Members of Congress on behalf of individual constituents who are subjects of CRT records;

(14) A record may be disclosed as a routine use to the National Archives and Records Administration (NARA) and to the General Services Administration (GSA) in records management inspections conducted under the authority of 44 U.S.C. 2904 and 2906;

(15) To a former employee of the Department for purposes of: Responding to an official inquiry by a Federal, State, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING, AND DISPOSING OF RECORDS IN THE SYSTEM:

STORAGE:

Information in this system is stored on index cards, in file jackets, and on computer disks or tapes.

RETRIEVABILITY:

Records are retrieved by the names of individuals or by case numbers assigned to certain cases being investigated by the Department.

SAFEGUARDS:

Information in manual and computer form is safeguarded and protected in accordance with applicable Department security regulations for systems of records. Only a limited number of staff members who are assigned a specific identification code will be able to use the computer to access the stored information. However, a section may decide to allow its employees access to the system in order to perform their official duties.

RETENTION AND DISPOSAL:

Records are maintained on the system while current and required for official Government use. When no longer needed on an active basis, the paper files are transferred to the Federal Records Center, Suitland, Maryland and some records are transferred to computer tape and stored in accordance with Department security regulations for systems of records. Final disposition is in accordance with records retention schedules approved by NARA.

SYSTEM MANAGER(S) AND ADDRESS:

Executive Officer, Administrative Management Section, Civil Rights Division, United States Department of Justice, 950 Pennsylvania Avenue, NW., Washington, DC 20530-0001.

NOTIFICATION PROCEDURE:

Part of this system is exempted from this requirement under 5 U.S.C. 552a(j)(2) and (k)(2). Address inquiries to the System Manager listed above.

RECORD ACCESS PROCEDURES:

Part of this system is exempted from this requirement under 5 U.S.C. 552a(j)(2) and (k)(2). To the extent that this system of records is not subject to exemption, it is subject to access and contest. A determination as to exemption shall be made at the time a request for access is received. A request for access to a record retrievable in this system shall be made in writing, with the envelope and letter clearly marked “Privacy Access Request.” Include in the request the full name of the individual, his or her current address, date and place of birth, notarized signature or dated signature submitted under penalty of perjury (28 CFR 16.41(d)), the subject of the case or matter as described under “Categories of records in the system,” and any other information which is known and may be of assistance in locating the record, such as the name of the civil rights related case or matter involved, where and when it occurred and the name of the judicial district involved. The requester will also provide a return address for transmitting the information. Access requests should be directed to the System Manager listed above.

CONTESTING RECORD PROCEDURES:

Individuals desiring to contest or amend non-exempt information retrievable in the system should direct their request to the System Manager listed above, stating clearly and concisely what information is being contested, the reasons for contesting it, and the proposed amendment to the information sought.

RECORD SOURCE CATEGORIES:

Sources of information contained in this system may be an agency or person who has or offers information related to the law enforcement responsibilities and/or other statutorily-mandated duties of CRT.

EXEMPTIONS CLAIMED FOR THE SYSTEM:

The Attorney General has exempted parts of this system from subsections (c)(3) and (4); (d)(1), (2), (3), and (4); (e)(1), (2), (3), (5), and (8); and (g) of the Privacy Act pursuant to 5 U.S.C. 552a (j)(2), (k)(1) and (k)(2). Rules have been promulgated in accordance with the requirements of 5 U.S.C. 553 (b), (c) and (e) and have been published in the Federal Register. These exemptions apply only to the extent that information in a record pertaining to a particular individual relates to an official federal investigation and/or law enforcement matter. Those files indexed under an individual's name which concern only the administrative management of restitution payments under section 105 of the Civil Liberties Act of 1988 are not being exempted pursuant to 5 U.S.C. 552a(j)(2) and (k)(2).

JUSTICE/CRT-003

SYSTEM NAME:

Civil Rights Interactive Case Management System (ICM).

SYSTEM LOCATION:

United States Department of Justice, Civil Rights Division (CRT), 950 Constitution Ave., NW., Washington, DC 20530-0001.

CATEGORIES OF INDIVIDUALS COVERED BY THE SYSTEM:

These persons may include: Complainants, victims, defendants, parties, experts, mediators, Assistant U.S. Attorneys, judges, and individuals or representatives on behalf of individuals in potential or actual cases and matters of concern under jurisdiction of the Civil Rights Division; and CRT employees, including attorneys, paralegals, and professional staff, who handle complaints, cases or matters of concern to CRT.

CATEGORIES OF RECORDS IN THE SYSTEM:

(1) Records in this system pertain to a broad variety of cases and matters under the jurisdiction of the CRT relating to disability rights, education, employment, housing, special litigation, voting, criminal, enforcement, and other civil rights laws or matters;

(2) Summary information of these cases or matters is maintained in the system including such information as names of principal parties or subjects, proper case name, case numbers, judicial district, assignments, alleged violation, section of CRT responsible for the matter, and case status, ranging from the preliminary development stage, through investigation, litigation, compliance, appeal, conviction or closure; and

(3) The ICM also has a time reporting system that allows the CRT to capture, analyze and report the professional time attorneys, paralegals and other employees of the Division spend on investigation and case related tasks.

PURPOSE(S):

The ICM is designed to track, count and measure all investigations and cases throughout their life cycle. The CRT uses reports generated from this system to provide a profile for each section's activities and to furnish management with a global perspective to the CRT workload. The ICM also has a time reporting system that allows the CRT to capture, analyze and report the level of effort attorneys, paralegals, and professional staff spend on investigation and case related tasks. One purpose of this system is to assist employees and officials of the Department to keep track of resources and professional time devoted to individual assignments to matters and broad categories of cases. Another purpose is to assist the CRT in preparing budget requests and other reports which may be submitted to the Attorney General or to Congress.

AUTHORITY FOR MAINTENANCE OF THE SYSTEM:

The records in this system are kept under the authority of 44 U.S.C. 3101 and in the ordinary course of fulfilling the responsibilities assigned to CRT under 28 CFR 0.50, 0.51.

ROUTINE USES OF RECORDS MAINTAINED IN THE SYSTEM, INCLUDING CATEGORIES OF USERS AND THE PURPOSES OF SUCH USES:

A record maintained in this system of records may be disseminated as a routine use of such records as follows:

(1) A record relating to this system, or any facts derived therefrom, may be disseminated in a proceeding before a court, grand jury, administrative or regulatory proceeding or any other adjudicative body before which CRT is authorized to appear, when the United States, or any agency or subdivision thereof, is a party to litigation or has an interest in litigation and such records are determined by CRT to be arguably relevant to the litigation;

(2) In the event that a record in this system, either alone or in conjunction with other information, indicates a violation or potential violation of law—criminal, civil, or regulatory in nature—the relevant records may be referred to the appropriate Federal, State, local, foreign, or Tribal law enforcement authority or other appropriate agency charged with the responsibility for investigating or prosecuting such violation or charged with enforcing or implementing such law;

(3) A record relating to this system may be disseminated to an actual or potential party to litigation or the party's attorney or authorized representative for the purpose of negotiation or discussion on such matters as settlement of the case or matter, plea bargaining, or in informal discovery proceedings;

(4) A record may be disseminated to contractors, grantees, experts, consultants, students, and others performing or working on a contract, service, grant, cooperative agreement, or other assignment for the Federal Government, when necessary to accomplish an agency function related to this system of records;

(5) A record may be disseminated to complainants and victims to the extent necessary to provide such persons with information and explanations concerning the progress or results of the investigation or case arising from the matters of which the complainants or victims complained or of which they were a victim;

(6) A record may be disseminated to a former employee of the Department for purposes of: Responding to an official inquiry by a Federal, State, or local government entity or professional licensing authority, in accordance with applicable Department regulations; or facilitating communications with a former employee that may be necessary for personnel-related or other official purposes where the Department requires information and/or consultation assistance from the former employee regarding a matter within that person's former area of responsibility.

(7) Information permitted to be released to the news media and the public pursuant to 28 CFR 50.2 may be made available unless it is determined that release of the specific information in the context of a particular case would constitute an unwarranted invasion of personal privacy;

(8) Information in the system may be disclosed as is necessary to respond to inquiries by Members of Congress on behalf of individual constituents who are subjects of CRT records; and

(9) A record from the system or records may be disclosed to National Archives and Records Administration (NARA) and General Services Administration (GSA) for records management inspections conducted under the authority of 44 U.S.C. 2904 and 2906.

POLICIES AND PRACTICES FOR STORING, RETRIEVING, ACCESSING, RETAINING, AND DISPOSING OF RECORDS IN THE SYSTEM:

STORAGE:

Records are maintained electronically in the ICM computerized information system.

RETRIEVABILITY:

Information is retrieved by name or other identifier assigned to an individual.

SAFEGUARDS:

Information contained in the system is unclassified. It is safeguarded and protected in accordance with Departmental security regulations for systems or records. Access to the records is limited to those employees whose official duties require such access in order to perform their duties.

RETENTION AND DISPOSAL:

Records are maintained in the system while current and required for official Government use. When no longer needed on an active basis, the records are stored in accordance with Departmental security regulations for systems of records. The disposition schedule is pending approval at NARA.

SYSTEM MANAGER(S) AND ADDRESS:

Executive Officer, Administrative Management Section, Civil Rights Division, United States Department of Justice, 950 Pennsylvania Ave., NW., Washington, DC 20530-0001.

NOTIFICATION PROCEDURE:

Address inquiries to the system manager listed above.

RECORD ACCESS PROCEDURE:

A request for access to a record retrievable in this system shall be made in writing, with the envelope and letter clearly marked “Privacy Access Request.” Include in the request the full name of the individual involved, his or her current address, date and place of birth, and notarized signature or dated signature submitted under penalty of perjury (28 CFR 16.41(d)), and any other information which is known and may be of assistance in locating the record. The requester should provide a return address for transmitting the information. Access requests should be directed to the System Manager listed above.

CONTESTING RECORD PROCEDURES:

Individuals desiring to contest or amend their records should direct their request to the System Manager listed above, stating clearly and concisely what information is being contested, the reasons for contesting it, and the proposed amendment to the information sought.

RECORD SOURCE CATEGORIES:

Information on time-allocation is provided by CRT attorneys, paralegals and professional staff who handle complaints, cases or matters of concern to the CRT. Sources of information contained in this system are those records reflecting all cases or matters under consideration by CRT.

EXEMPTIONS CLAIMED FOR THE SYSTEM:

None.

JUSTICE/CRT-004

SYSTEM NAME:

Registry of Names of Interested Persons Desiring Notification of Submissions under Section 5 of the Voting Rights Act.

SYSTEM LOCATION:

U.S. Department of Justice, Civil Rights Division (CRT), 950 Pennsylvania Avenue, NW., Washington, DC 20530-0001.

CATEGORIES OF INDIVIDUALS COVERED BY THE SYSTEM:

Persons who have requested that the Attorney General send them notice of submissions under Section 5 of the Voting Rights Act of 1965, 42 U.S.C. 1973c.

CATEGORIES OF RECORDS IN THE SYSTEM:

The Registry contains the name, address and telephone numbers of interested parties, and, where appropriate, the voting area or areas with respect to which notification was requested by such persons.

AUTHORITY FOR MAINTENANCE OF THE SYSTEM:

46 FR 877 (1981) codified in 28 CFR part 51, 42 U.S.C. 1973c, 5 U.S.C. 301 and 28 U.S.C. 509, 510.

PURPOSE(S):

The purpose is to maintain records in a Registry to identify persons interested in receiving notification of submissions under Section 5 of the Voting Rights Act and to comply with their requests. Section 5, which applies to several states and some counties, requires that any change with respect to voting that a specially covered jurisdiction makes is legally unenforceable unless and until the jurisdiction obtains from the Federal court in the District of Columbia or from the Attorney General a determination that the change is not discriminatory on account of race, color, or membership in a language minority group. If the jurisdiction is unable to prove the absence of discrimination, the Attorney General objects to the change, and it remains legally unenforceable. Further, the Registry may be used to notify the persons listed therein of any proposed changes in the “Procedures for the Administration of Section 5 of the Voting Rights Act of 1965,” 46 FR 870 (1981), codified in 28 CFR part 51, and to solicit their comments with respect to any such proposed changes.

ROUTINE USES OF RECORDS MAINTAINED IN THE SYSTEM, INCLUDING CATEGORIES OF USERS AND THE PURPOSES OF SUCH USES:

A record maintained in this system of records may be disseminated as a routine use of such records as follows:

(1) A record relating to this system, or any facts derived therefrom, may be disseminated in a proceeding before a court, grand jury, administrative or regulatory proceeding or any other adjudicative body before which CRT is authorized to appear, when the United States, or any agency or subdivision thereof, is a party to litigation or has an interest in litigation and such records are determined by CRT to be arguably relevant to the litigation;

(2) A record relating to this system may be disseminated to an actual or potential party to litigation or the party's attorney or authorized representative for the purpose of negotiation or discussion on such matters as settlement of the case or matter, plea bargaining or in informal discovery proceedings.

(3) A record may be disseminated to contractors, grantees, experts, consultants, students, and others performing or working on a contract, service, grant, cooperative agreement, or other assignment for the Federal Government, when necessary to accomplish an agency function related to this system of records;

(4) A record may be disseminated to complainants and victims to the extent necessary to provide such persons with information and explanations concerning the progress and/or results of the investigation or case arising from the matters of which the complainants or victims complained or of which they were a victim;

(5) Information permitted to be released to the news media and the public pursuant to 28 CFR 50.2 may be made available from systems of records maintained by the Department of Justice unless it is determined that release of the specific information in the context of a particular case would constitute an unwarranted invasion of personal privacy;

(6) Information in the system may be disclosed as is necessary to respond to inquiries by Members of Congress on behalf of individual constituents who are subjects of CRT records;

(7) A record from a system of records may be disclosed as a routine use to National Archives and Records Administration (NARA) and General Services Administration (GSA) in records management inspections conducted under the authority of 44 U.S.C. 2904 and 2906;

(8) A record may be disclosed to a former employee of the Department for purposes of: Responding to an official inquiry by a Federal, State, or local government entity or professional licensing authority, in accordance with applicable Department regulations; or facilitating communications with a former employee that may be necessary for personnel-related or other official purposes where the Department requires information and/or consultation assistance from the former employee regarding a matter within that person's former area of responsibility; and

(9) In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law.

POLICIES AND PRACTICES FOR STORING, RETRIEVING, ACCESSING, RETAINING, AND DISPOSING OF RECORDS IN THE SYSTEM:

STORAGE:

Names are stored in a card file system, and an automated addresser.

RETRIEVABILITY:

Records in this system are retrievable by the names of interested persons or organizations.

SAFEGUARDS:

Information in the system is safeguarded in accordance with Departmental rules and procedures governing access, production and disclosure of any materials contained in its official files.

RETENTION AND DISPOSAL:

An individual or organizational name is retained in the Registry until such time as that person or organization requests that the name be deleted.

SYSTEM MANAGER(S) AND ADDRESS:

Chief, Voting Section, Civil Rights Division, U.S. Department of Justice, 950 Pennsylvania Ave., NW., Washington, DC 20530-0001.

NOTIFICATION PROCEDURE:

Address inquiries to: Assistant Attorney General, Civil Rights Division, U.S. Department of Justice, 950 Pennsylvania Ave., NW., Washington, DC 20530-0001.

RECORD ACCESS PROCEDURES:

This system contains no information about any individual other than as described in Categories of Records above. Persons whose names appear on the Registry may have access thereto or have their names and other information pertaining to them deleted or modified upon a request of the same nature as indicated in 46 FR 877 (1981), codified in 28 CFR part 51.

CONTESTING RECORD PROCEDURES:

Same as the above.

RECORD SOURCE CATEGORIES:

Sources of information in the Registry are those persons or organizations whose names appear therein by virtue of their having requested inclusion in the Registry pursuant to 46 FR 877 (1981), codified in 28 CFR 51.32.

EXEMPTIONS CLAIMED FOR THE SYSTEM:

None.

JUSTICE/CRT-007

SYSTEM NAME:

Files on Employment Civil Rights Matters Referred by the Equal Employment Opportunity Commission.

SYSTEM LOCATION:

U.S. Department of Justice, Civil Rights Division (CRT), 950 Pennsylvania Avenue NW., Washington, DC 20530-0001.

CATEGORIES OF INDIVIDUALS COVERED BY THE SYSTEM:

Persons seeking employment or employed by a state or a political subdivision of a state who have filed charges alleging discrimination in employment with the Equal Employment Opportunity Commission (hereinafter EEOC) which have resulted in a determination by EEOC that there is probable cause to believe that such discrimination has occurred, and attempts by EEOC at conciliation have failed.

CATEGORIES OF RECORDS IN THE SYSTEM:

The system may contain copies of charges filed with EEOC, copies of EEOC's “determination” letters, letters of transmittal from and to EEOC, analyses or evaluations summarizing the charge and other materials in the EEOC file, internal memoranda, attorney notes, and copies of “right to sue” letters issued by CRT. The system may also contain charges related to allegations of employment discrimination by public employers filed by individual complainants which have been referred to the Department of Justice by EEOC pursuant to 42 U.S.C. 2000e-5(f) (1) or 5(f) (2), or to allegations of a pattern or practice of violations of the Equal Employment Opportunity Act by a public employer which have been referred to the Department of Justice by EEOC pursuant to 42 U.S.C. 2000e-6. If the Department has determined to initiate an investigation or litigate a matter referred by EEOC the records pertaining to that matter are not contained in the system. Such records and their routine uses are described under the notice for the system named: Central CRT Index File and Associated Records/CRT-001.

AUTHORITY FOR MAINTENANCE OF THE SYSTEM:

The records in this system of records are kept under authority of 44 U.S.C. 3101 and in the ordinary course of fulfilling the responsibilities assigned to CRT under 28 CFR 0.50, 0.51.

PURPOSE(S):

One purpose of this system is to assist employees and officials of the Department to make decisions regarding the issuance of right to sue letters or make decisions regarding prosecutions of alleged instances of employment discrimination. Another purpose is to assist the Division in preparing budget requests, statistical reports, and other internal functions of the Department.

ROUTINE USES OF RECORDS MAINTAINED IN THE SYSTEM, INCLUDING CATEGORIES OF USERS AND THE PURPOSES OF SUCH USES:

A record maintained in this system of records may be disseminated as a routine use of such records as follows:

(1) A record relating to this system, or any facts derived therefrom may be disseminated in a proceeding before a court, grand jury, administrative or regulatory proceeding or any other adjudicative body before which CRT is authorized to appear, when the United States, or any agency or subdivision thereof, is a party to litigation or has an interest in litigation and such records are determined by CRT to be arguably relevant to the litigation;

(2) A record relating to this system may be disseminated to an actual or potential party to litigation or the party's attorney or authorized representative for the purpose of negotiation or discussion on such matters as settlement of the case or matter, plea bargaining or in informal discovery proceedings;

(3) A record may be disseminated to contractors, grantees, experts, consultants, students, and others performing or working on a contract, service, grant, cooperative agreement, or other assignment for the Federal Government, when necessary to accomplish an agency function related to this system of records;

(4) A record may be disseminated to complainants and victims to the extent necessary to provide such persons with information and explanations concerning the progress and/or results of the investigation or case arising from the matters of which the complainants or victims complained or of which they were a victim;

(5) Information permitted to be released to the news media and the public pursuant to 28 CFR 50.2 may be made available from systems of records maintained by the Department of Justice unless it is determined that release of the specific information in the context of a particular case would constitute an unwarranted invasion of personal privacy;

(6) Information in the system may be disclosed as is necessary to respond to inquiries by Members of Congress on behalf of individual constituents who are subjects of CRT records;

(7) A record from a system of records may be disclosed as a routine use to National Archives and Records Administration (NARA) and General Services Administration (GSA) in records management inspections conducted under the authority of 44 U.S.C. 2904 and 2906; and

(8) A record may be disclosed to a former employee of the Department for purposes of: Responding to an official inquiry by a Federal, State, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING, AND DISPOSING OF RECORDS IN THE SYSTEM:

STORAGE:

Information in the systems is stored on index cards, in file jackets, and in computer disks which are maintained by the Employment Litigation Section, Civil Rights Division.

RETRIEVABILITY:

Information is retrieved primarily by using the appropriate Department of Justice file number, or the name of the charging party, or the state in which the alleged discrimination occurred or through other logical queries to the computer based system.

SAFEGUARDS:

Information in manual and computer form is safeguarded and protected in accordance with applicable Departmental security regulations for systems of records. Staff members who are assigned a specific identification code will be able to use the computer or to access the stored information in order to perform their official duties.

RETENTION AND DISPOSAL:

If the Department determines not to prosecute a matter referred by the EEOC, the records transmitted with the referral are returned to the EEOC. Other records in the system are kept for routine use by the Department and when no longer needed are sent to the Federal Records Center or are destroyed. Records are retained and disposed of in accordance with item 25 of the General Records Schedule 1 as approved by the Archivist of the United States.

SYSTEM MANAGER(S) AND ADDRESS:

Assistant Attorney General, Civil Rights Division, U.S. Department of Justice, 950 Pennsylvania Ave., NW., Washington, DC 20530-0001.

NOTIFICATION PROCEDURE:

Same as the above.

RECORD ACCESS PROCEDURE:

A request for access to a record from this system shall be made in writing with the envelope and letter clearly marked “Privacy Access Request.” The request should indicate the state where the alleged employment discrimination took place and the employer to which the charge was related. The requester should also provide the full name of the individual involved, his or her current address, date and place of birth, notarized signature or dated signature submitted under penalty of perjury (28 CFR 16.41(d)), any other known information which may be of assistance in locating the record, and a return address for transmitting the information. Access requests will be directed to the System Manager listed above.

CONTESTING RECORD PROCEDURES:

Individuals desiring to contest or amend information maintained in the system should direct their request to the System Manager listed above, stating clearly and concisely what information is being contested, the reasons for contesting it, and the proposed amendment to the information sought. Disclosure of part of the material in this system may be prohibited by 42 U.S.C. 2000e-5(b), 42 U.S.C. 2000e-8(e) and 44 U.S.C. 3510(b). Part of this system is exempted from access and contest under 5 U.S.C. 552a(k) (2).

RECORD SOURCE CATEGORIES:

Sources of information in this system are charging parties, information compiled and maintained by EEOC, and employees and officials of the Department of Justice responsible for the disposition of the referral request.

EXEMPTIONS CLAIMED FOR THE SYSTEM:

The Attorney General has exempted the system from 5 U.S.C. 552a (d)(1), (2), (3), and (4) of the Privacy Act pursuant to 5 U.S.C. 552a (k)(2). Rules have been promulgated in accordance with the requirements of 5 U.S.C. 553 (b), (c) and (e), and have been published in the Federal Register.

JUSTICE/CRT-009

SYSTEM NAME:

Civil Rights Division Travel Reports, CRT-009.

SYSTEM LOCATION:

United States Department of Justice, Civil Rights Division (CRT), 950 Pennsylvania Avenue, NW., Washington, DC 20530-0001.

CATEGORIES OF INDIVIDUALS COVERED BY THE SYSTEM:

All persons who have filed travel authorization forms or travel voucher forms for official travel on behalf of CRT.

CATEGORIES OF RECORDS IN THE SYSTEM:

The Division's filing system contains information concerning travel expenditures which were recorded on travel authorization forms and travel voucher forms by CRT employees or other persons authorized to travel for CRT and submitted to the Budget and Finance Branch of CRT.

AUTHORITY FOR MAINTENANCE OF THE SYSTEM:

The records in this system of records are kept under the authority of 44 U.S.C. 3101 and in the ordinary course of fulfilling the responsibilities assigned to CRT under 28 CFR 0.50, 0.51.

PURPOSE(S):

One purpose of this system is to assist employees and officials of the Division to measure and track expenditures within the Division. Other purposes are to assist the Division in preparing reports within various sections to control and review expenditures.

ROUTINE USES OF RECORDS MAINTAINED IN THE SYSTEM, INCLUDING CATEGORIES OF USERS AND THE PURPOSES OF SUCH USES:

A record maintained in this system of records may be disseminated as a routine use of such records as follows:

(1) A record relating to this system, or any facts derived therefrom, may be disseminated in a proceeding before a court, grand jury, administrative or regulatory proceeding or any other adjudicative body before which CRT is authorized to appear, when the United States, or any agency or subdivision thereof, is a party to litigation or has an interest in litigation and such records are determined by CRT to be arguably relevant to the litigation;

(2) A record relating to this system may be disseminated to an actual or potential party to litigation or the party's attorney or authorized representative for the purpose of negotiation or discussion on such matters as settlement of the case or matter, plea bargaining or in informal discovery proceedings;

(3) A record may be disseminated to contractors, grantees, experts, consultants, students, and others performing or working on a contract, service, grant, cooperative agreement, or other assignment for the Federal Government, when necessary to accomplish an agency function related to this system of records;

(4) Information permitted to be released to the news media and the public pursuant to 28 CFR 50.2 may be made available from systems of records maintained by the Department of Justice unless it is determined that release of the specific information in the context of a particular case would constitute an unwarranted invasion of personal privacy;

(5) Information in the system may be disclosed as is necessary to respond to inquiries by Members of Congress on behalf of individual constituents who are subjects of CRT records;

(6) A record from a system of records may be disclosed as a routine use to National Archives and Records Administration (NARA) and General Services Administration (GSA) in records management inspections conducted under the authority of 44 U.S.C. 2904 and 2906;

(7) A record may be disclosed to a former employee of the Department for purposes of: Responding to an official inquiry by a Federal, State, or local government entity or professional licensing authority, in accordance with applicable Department regulations; or facilitating communications with a former employee that may be necessary for personnel-related or other official purposes where the Department requires information and/or consultation assistance from the former employee regarding a matter within that person's former area of responsibility; and

(8) In the event that a record in this system, either alone or in conjunction with other information, indicates a violation or potential violation of law-criminal, civil or regulatory in nature-the relevant records may be referred to the appropriate Federal, State, local, foreign, or Tribal law enforcement authority or other appropriate agency charged with the responsibility for investigating or prosecuting such violation or charged with enforcing or implementing such law.

POLICIES AND PRACTICES FOR STORING, RETRIEVING, ACCESSING, RETAINING, AND DISPOSING OF RECORDS IN THE SYSTEM:

STORAGE:

Records are stored in hard copy and electronic form.

RETRIEVABILITY:

Records in this system are retrieved by the names of those individuals identified under the caption “Categories of individuals covered by the system.”

SAFEGUARDS:

Information in the system is unclassified. However, the records are protected in accordance with applicable Department security regulations for systems of records. Records are stored in locked cabinets and access to the computer is limited to those personnel who have a need for access to perform their official duties.

RETENTION AND DISPOSAL:

Records are maintained on the system while current and required for official Government use. When no longer needed on an active basis, the records are transferred to computer tape and stored in accordance with Departmental security regulations for systems of records. Final disposition will be in accordance with records retirement or destruction as scheduled by NARA in General Records Schedule 9.

SYSTEM MANAGER(S) AND ADDRESS:

Executive Officer, Administrative Management Section, Civil Rights Division, United States Department of Justice, 950 Pennsylvania Ave., NW., Washington, DC 20530-0001.

NOTIFICATION PROCEDURE:

Same as the above.

RECORD ACCESS PROCEDURES:

Requests by former employees for access to records in this system may be made in writing with the envelope and letter clearly marked “Privacy Act Request.” The request should clearly state the dates on which official travel was taken. The requestor should also provide the full name of the individual involved, his or her current address, date and place of birth, notarized signature or dated signature submitted under penalty of perjury (28 CFR 16.41(d)), any other known information which may be of assistance in locating the record, and a return address for transmitting the information. Access requests will be directed to the System Manager. Present employees may request access by contacting the System Manager directly.

CONTESTING RECORD PROCEDURES:

Individuals desiring to contest or amend information maintained in the system should direct their request to the System Manager listed above, stating clearly and concisely what information is being contested, the reason for contesting it, and the proposed amendment to the information sought.

RECORD SOURCE CATEGORIES:

Sources of information are CRT employees and other authorized persons who file travel authorization and travel voucher forms.

EXEMPTIONS CLAIMED FOR THE SYSTEM:

None.

[FR Doc. 03-20342 Filed 8-8-03; 8:45 am]

BILLING CODE 4410-13-P